DEPARTMENT OF COMMERCE

Foreign-Trade Zones Board

[Order No. 1564]

Approval for Manufacturing Authority, Imperium Renewables, Inc., (Biodiesel), Aberdeen and Hoquiam, WA

Pursuant to its authority under the Foreign-Trade Zones Act of June 18, 1934, as amended (19 U.S.C. 81a-81u), the Foreign-Trade Zones Board (the Board) adopts the following Order:

WHEREAS, the Port of Grays Harbor, grantee of FTZ 173, has requested manufacturing authority on behalf of Imperium Renewables, Inc. (IRI), within FTZ 173 in Aberdeen and Hoquiam, Washington (FTZ Docket 13-2007, filed 4/4/2007);

WHEREAS, notice inviting public comment has been given in the Federal Register (72 FR 18203, 4/11/2007);

WHEREAS, the Board adopts the findings and recommendations of the examiner's report, and finds that the requirements of the FTZ Act and Board's regulations would be satisfied, and that approval of the application would be in the public interest if subject to the restriction listed below;

NOW, THEREFORE, the Board hereby grants authority for manufacturing authority within FTZ 173 on behalf of IRI, as described in the application and Federal Register notice, subject to the FTZ Act and the Board's regulations, including § 400.28, and further limited to an initial time period for approval, until March 31, 2013, subject to extension upon review.

Signed at Washington, DC, this 12th day of June 2008.

David M. Spooner,
Assistant Secretary of Commerce for Import Administration, Alternate Chairman Foreign-Trade Zones Board.

Attest:

Andrew McGilvray,
Executive Secretary.

[FR Doc. E8-14418 Filed 6-24-08; 8:45 am]

BILLING CODE 3510-DS-S